DEPARTMENT OF EDUCATION

[CFDA No. 84.938H]

Correction; Notice Announcing Availability of Funds and Application Deadline for Hurricane Education Recovery Awards; Correction

AGENCY: Office of Postsecondary Education, Department of Education.

ACTION: Notice.

SUPPLEMENTARY INFORMATION: On August 18, 2006, we published a notice in the Federal Register (71 FR 47785) announcing the availability of funds and application deadline for Hurricane Education Recovery Awards under Title II of the Emergency Supplemental Appropriations Act for Defense, the Global War on Terror and Hurricane Recovery, 2006 (Pub. L. 109-234). On page 47786 of that notice, under the Pre-Application Requirements section, the last sentence of that section indicates that after submission of the pre-application, “Institutions will then have until September 12, 2006 to submit their application and budget through the e-Application system.” This date is corrected to read “September 19, 2006”.

FOR FURTHER INFORMATION CONTACT: David Johnson, Hurricane Education Recovery Awards, U.S. Department of Education, 1990 K Street, NW., room 6155, Washington, DC 20006-8544. Telephone: (202) 502-7516.

If you use a telecommunications device for the deaf (TDD), you may call the Federal Relay Service (FRS) at 1-800-877-8339.

Individuals with disabilities may obtain this document in an alternative format (e.g., Braille, large print, audiotape, or computer diskette) on request to the program contact person listed under FOR FURTHER INFORMATION CONTACT.

Electronic Access to This Document: You may view this document, as well as other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Program Authority: Division B, Title IV of Public Law 109-148; Title II of Public Law 109-234.

Dated: August 23, 2006.
James F. Manning,
Acting Assistant Secretary for Postsecondary Education.

[FR Doc. E6-14340 Filed 8-28-06; 8:45 am]

BILLING CODE 4000-01-P